SECURITIES AND EXCHANGE COMMISSION

[Release No. 34-51154; File No. SR-NSCC-2003-21]

Self-Regulatory Organizations; National Securities Clearing Corporation; Notice of Withdrawal of a Proposed Rule Change Relating to the New Separately Managed Accounts Service

February 8, 2005.

On February 2, 2005, the National Securities Clearing Corporation (“NSCC”) withdrew proposed rule change SR-NSCC-2003-21 which had been filed with the Securities and Exchange Commission (“Commission”) pursuant to Section 19(b)(1) of the Securities Exchange Act of 1934 (“Act”).¹ The purpose of the proposed rule was to add a new Rule 59 to NSCC's Rules to establish an information messaging system called the Separately Managed Accounts (“SMA”) Service. Notice of the proposal was published in the Federal Register on December 3, 2004.²

¹ 15 U.S.C. 78s(b)(1).

² Securities Exchange Act Release No. 48846 (November 26, 2003), 68 FR 67714.

For the Commission by the Division of Market Regulation, pursuant to delegated authority.³
³ 17 CFR 200.30-3(a)(12).
Margaret H. McFarland,
Deputy Secretary.

[FR Doc. E5-619 Filed 2-14-05; 8:45 am]

BILLING CODE 8010-01-P